NUCLEAR REGULATORY COMMISSION

[NRC-2009-0481]

Protection Against Turbine Missiles

AGENCY: Nuclear Regulatory Commission.

ACTION: Regulatory guide; issuance.

SUMMARY: The U.S. Nuclear Regulatory Commission (NRC or Commission) is issuing a revision to Regulatory Guide 1.115, “Protection Against Turbine Missiles.” This guide describes methods acceptable to the NRC staff for protecting safety-related structures, systems, and components against missiles resulting from turbine failure by the appropriate orientation and placement of the turbine-generator set, the management of the probability of turbine missile generation, and the use of missile barriers.

ADDRESSES: You can access publicly available documents related to this regulatory guide using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-(800) 397-4209, (301) 415-4737, or by email to pdr.resource@nrc.gov. The regulatory guide is available electronically under ADAMS Accession Number ML101650675. The regulatory analysis may be found in ADAMS under Accession Number ML101670039.

• Federal Rulemaking Web Site: Public comments and supporting materials related to this notice can be found at http://www.regulations.gov by searching on Docket ID NRC-2009-0481.

Regulatory guides are not copyrighted, and NRC approval is not required to reproduce them.

FOR FURTHER INFORMATION CONTACT: R.A. Jervey, Regulatory Guide Development Branch, Division of Engineering, Office of Nuclear Regulatory Research, U.S. Nuclear Regulatory Commission, Washington, DC 20555-0001, telephone: (301) 251-7404 or email: Richard.Jervey@nrc.gov.

SUPPLEMENTARY INFORMATION: The NRC is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 2 of Regulatory Guide 1.115, “Protection Against Turbine Missiles,” was issued with a temporary identification as Draft Regulatory Guide, DG-1217. DG-1217 was published in the Federal Register on November 2, 2009 (74 FR 56672) for a 60 day public comment period. DG-1217 was reissued for public comment on May 6, 2011 (76 FR 26320). The public comment period closed on June 3, 2011. The staff's responses to the public comments received are located in the NRC's Agencywide Documents Access and Management System (ADAMS) under the following Accession Numbers ML112090989 and ML101660585.

Dated at Rockville, Maryland, this 13th day of January 2011.
For the Nuclear Regulatory Commission.
Edward O'Donnell,
Acting Chief, Regulatory Guide Development Branch, Division of Engineering, Office of Nuclear Regulatory Research.

[FR Doc. 2012-1335 Filed 1-23-12; 8:45 am]

BILLING CODE 7590-01-P